NATIONAL SCIENCE FOUNDATION

Sunshine Act Meetings

The National Science Board hereby gives notice of the scheduling of a teleconference of the Committee on Oversight (CO) for the transaction of National Science Board business pursuant to the NSF Act and the Government in the Sunshine Act.

TIME AND DATE: The CO meeting is scheduled for Tuesday, August 27, 2024, from 12:00 p.m.-1:00 p.m.

PLACE: This meeting will be via videoconference through the National Science Foundation, 2415 Eisenhower Avenue, Alexandria, VA 22314.

STATUS: Closed.

MATTERS TO BE CONSIDERED: The agenda for the CO meeting is: Commission Chair's opening remarks regarding the agenda; presentation by the Office of the Inspector General on its budget request for FY2026; and discussion and vote on sense of the committee.

CONTACT PERSON FOR MORE INFORMATION: Point of contact for this meeting is: Chris Blair, cblair@nsf.gov, 703/292-7000. Meeting information and updates may be found at www.nsf.gov/nsb.

Ann E. Bushmiller,
Senior Counsel to the National Science Board Office.

[FR Doc. 2024-19181 Filed 8-22-24; 11:15 am]

BILLING CODE 7555-01-P